DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (“we”) solicits review and comment from local, State, and Federal agencies, and the public on the following permit requests.

DATES: Comments on these permit applications must be received on or before March 29, 2004 to receive our consideration.

ADDRESSES: Written data or comments should be submitted to the U.S. Fish and Wildlife Service, Chief, Endangered Species, Ecological Services, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above (telephone: 503-231-2063). Please refer to the respective permit number for each application when requesting copies of documents.

SUPPLEMENTARY INFORMATION: Permit No.: TE-081310.

Applicant: Thomas L. Richards, Los Osos, California.

The applicant requests a permit to take (locate, handle, measure, and release) the Morro shoulderband snail (Helminthoglypta walkeriana) in conjunction with demographic studies in San Luis Obispo County, California, for the purpose of enhancing its survival.

Permit No.: TE-081298.

Applicant: Daniel H. Weinberg, Berkeley, California.

The applicant requests a permit to take (harass by survey) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California and Oregon for the purpose of enhancing their survival.

Permit No.: TE-081296.

Applicant: Loafer Creek Management, Oroville, California.

The applicant requests a permit to take (harass by survey) the Conservancy fairy shrimp (Branchinecta conservatio), the longhorn fairy shrimp (Branchinecta longiantenna), and the vernal pool tadpole shrimp (Lepidurus packardi) in conjunction with surveys throughout the range of each species in California for the purpose of enhancing their survival.

Permit No.: TE-081306.

Applicant: Howard O. Clark, Fresno, California.

The applicant requests a permit to take (spotlight, capture, radio collar, mark, collect biological samples, and release) the San Joaquin kit fox (Vulpes macrotis mutica) in conjunction with scientific research throughout the range of the species for the purpose of enhancing its survival.

Permit No.: TE-081529.

Applicant: Sandia National Laboratories, Livermore, California.

The applicant requests a permit to take (harass by survey, capture, handle, and release) the California tiger salamander Sonoma County distinct population segment (Ambystoma californiense) in conjunction with surveys in Sonoma County, California for the purpose of enhancing its survival.

Permit No.: TE-039161.

Applicant: Lara Tikkanen Reising, La Mesa, California.

The permittee requests an amendment to take (monitor nests) the least Bell's vireo (Vireo bellii pusillus), and take (harass by survey and monitor nests) the southwestern willow flycatcher (Empidonax traillii extimus) in conjunction with demographic studies in San Diego County, California, for the purpose of enhancing their survival.

Permit No.: TE-054011.

Applicant: John Green, Riverside, California.

The applicant requests a permit to take (monitor nests) the least Bell's vireo (Vireo bellii pusillus) in conjunction with demographic studies in San Diego, San Bernardino, Orange, and Riverside Counties, California, for the purpose of enhancing its survival.

We solicit public review and comment on each of these recovery permit applications.

Dated: February 12, 2004.
Michael Fris,
Acting Manager, California/Nevada Operations Office, Region 1, U.S. Fish and Wildlife Service.

[FR Doc. 04-4259 Filed 2-25-04; 8:45 am]

BILLING CODE 4310-55-P